DEPARTMENT OF COMMERCE

Foreign-Trade Zones Board

[B-85-2015]

Foreign-Trade Zone (FTZ) 20—Newport News, Virginia; Authorization of Proposed Production Activity, Canon Virginia, Inc., Subzone 20D, (Toner Cartridges and Bottles); Newport News, Virginia

On December 14, 2015, Canon Virginia, Inc., operator of Subzone 20D, submitted a notification of proposed production activity to the Foreign-Trade Zones (FTZ) Board for its facilities in Newport News, Virginia.

The notification was processed in accordance with the regulations of the FTZ Board (15 CFR part 400), including notice in the Federal Register inviting public comment (80 FR 220, January 5, 2016). The FTZ Board has determined that no further review of the activity is warranted at this time. The production activity described in the notification is authorized, subject to the FTZ Act and the Board's regulations, including Section 400.14.

Dated: April 12, 2016.
Andrew McGilvray,
Executive Secretary.

[FR Doc. 2016-08908 Filed 4-15-16; 8:45 am]

BILLING CODE 3510-DS-P